NUCLEAR REGULATORY COMMISSION

[NRC-2010-0223]

Office of New Reactors; Proposed Revision to Standard Review Plan Section 13.6.3, Revision 1 on Physical Security—Early Site Permit

AGENCY: Nuclear Regulatory Commission (NRC).

ACTION: Solicitation of public comment.

SUMMARY: The NRC is soliciting public comment on NUREG-0800, “Standard Review Plan for the Review of Safety Analysis Reports for Nuclear Power Plants,” on a proposed Revision 1 to Standard Review Plan (SRP), Section 13.6.3 on “Physical Security—Early Site Permit,” (Agencywide Documents Access and Management System (ADAMS) Accession No. ML100980132). The Office of Nuclear Security and Incident Response is revising SRP Section 13.6.3, which updates the initial issuance of this section, dated March 2007, to reflect the changes of the recently issued Title 10 of the Code of Federal Regulations, part 73, Power Reactor Security Rule (published in the Federal Register (FR) on March 27, 2009 (74 FR 13926). The previous version of this SRP section was published in March 2007 as initial issuance (ADAMS Accession No. ML070720310).

The NRC staff issues notices to facilitate timely implementation of the current staff guidance and to facilitate activities associated with the review of amendment applications and review of design certification and combined license applications for the Office of New Reactors. The NRC staff intends to incorporate the final approved guidance into the next revision of NUREG-0800, SRP Section 13.6.3, Revision 1 and Regulatory Guide 1.206, “Combined License Applications for Nuclear Power Plants (LWR Edition),” June 2007.

DATES: Comments must be filed no later than 30 days from the date of publication of this notice in the Federal Register. Comments received after this date will be considered, if it is practical to do so, but the Commission is able to ensure consideration only for comments received on or before this date.

ADDRESSES: You may submit comments by any one of the following methods. Please include Docket ID NRC-2010-0223 in the subject line of your comments. Comments submitted in writing or in electronic form will be posted on the NRC Web site and on the Federal rulemaking Web site at http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0223. Address questions about NRC dockets to Carol Gallagher at 301-492-3668; e-mail at Carol.Gallagher@nrc.gov.

Mail comments to: Cindy Bladey, Chief, Rulemaking, Announcements and Directives Branch (RADB), Division of Administrative Services, Office of Administration, Mail Stop: TWB-05-B01M, U.S. Nuclear Regulatory Commission, Washington, DC 20555-0001, or by fax to RADB at 301-492-3446.

You can access publicly available documents related to this notice using the following methods:

NRC's Public Document Room (PDR): The public may examine and have copied for a fee publicly available documents at the NRC's PDR, Room O1 F21, One White Flint North, 11555 Rockville Pike, Rockville, Maryland.

The NRC ADAMS provides text and image files of NRC's public documents. These documents may be accessed through the NRC's Public Electronic Reading Room on the Internet at http://www.nrc.gov/reading-rm/adams.html. Persons who do not have access to ADAMS, or who encounter problems in accessing the documents located in ADAMS, should contact the NRC Public Document Room reference staff at 1-800-397-4209, 301-415-4737, or by e-mail at pdr.resources@nrc.gov.

FOR FURTHER INFORMATION CONTACT: Mr. William F. Burton, Chief, Rulemaking and Guidance Development Branch, Division of New Reactor Licensing, Office of New Reactors, U.S. Nuclear Regulatory Commission, Washington, DC 20555-0001; telephone at 301-415-6332 or e-mail at william.burton@nrc.gov.

The NRC staff is issuing this notice to solicit public comments on the proposed SRP Section 13.6.3, Revision 1. After the NRC staff considers any public comments, it will make a determination regarding the proposed SRP Section 13.6.3, Revision 1.

Dated at Rockville, Maryland, this 15th day of June 2010.
For the Nuclear Regulatory Commission.
William F. Burton,
Chief, Rulemaking and Guidance Development Branch, Division of New Reactor Licensing, Office of New Reactors.

[FR Doc. 2010-15319 Filed 6-23-10; 8:45 am]

BILLING CODE 7590-01-P